DEPARTMENT OF ENERGY

Federal Energy Regulatory Commission

[Docket No. CP03-307-000]

Southern Natural Gas Company; Notice of Application

June 23, 2003.

Take notice that on May 30, 2003, Southern Natural Gas Company (Southern) tendered for filing an abbreviated application pursuant to section 7(b) of the Natural Gas Act, as amended, and Section 157 of the Commission's regulations for authorization to abandon the transportation services, previously authorized in Dockets CP72-30, CP74-178, CP74-307, CP82-276, CP81-102, CP84-460, CP84-582 and rendered under Southern's X-20, X-27, X-29, X-60, X-64, X-67, and X-68 Rate Schedules respectively. The application is on file with the Commission and open to public inspection.

Southern states that it has provided transportation service on behalf of Florida pursuant to its specific rate schedules from certain points in the states of Alabama, Mississippi, and Louisiana, to existing interconnections with Florida in the states of Alabama and Louisiana. Southern explains that such service was provided pursuant to certain transportation agreements with varying expiration terms. Southern further explains that these agreements are a carry-over from years past and need to be abandoned as a housekeeping event because the intent and purpose of these agreements no longer exist. Southern states that no imbalances remain and no facilities are proposed to be abandoned.

Any person desiring to be heard or to protest said filing should file a motion to intervene or a protest with the Federal Energy Regulatory Commission, 888 First Street, NE., Washington, DC 20426, in accordance with sections 385.214 or 385.211 of the Commission's Rules and Regulations. All such motions or protests must be filed on or before the intervention and protest date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 3, 2003.

Magalie R. Salas,
Secretary.

[FR Doc. 03-16386 Filed 6-27-03; 8:45 am]

BILLING CODE 6717-01-P